INTERNATIONAL TRADE COMMISSION

[Investigation No. 337-TA-1021]

Certain Personal Transporters and Components Thereof Institution of Investigation

AGENCY: U.S. International Trade Commission.

ACTION: Notice.

SUMMARY: Notice is hereby given that a complaint was filed with the U.S. International Trade Commission on August 16, 2016, under section 337 of the Tariff Act of 1930, as amended, 19 U.S.C. 1337, on behalf of Segway Inc. of Bedford, New Hampshire; DEKA Products Limited Partnership of Manchester, New Hampshire; and Ninebot (Tianjin) Technology Co., Ltd. of China. A supplement to the complaint was filed on September 2, 2016. The complaint alleges violations of section 337 based upon the importation into the United States, the sale for importation, and the sale within the United States after importation of certain personal transporters and components thereof by reason of infringement of U.S. Patent No. 6,302,230 (“the '230 patent”) and U.S. Patent No. 7,275,607 (“the '607 patent”). The complaint further alleges that an industry in the United States exists as required by subsection (a)(2) of section 337.

The complainants request that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2016).

Scope of Investigation: Having considered the complaint, the U.S. International Trade Commission, on September 15, 2016, Ordered That—

(1) Pursuant to subsection (b) of section 337 of the Tariff Act of 1930, as amended, an investigation be instituted to determine whether there is a violation of subsection (a)(1)(B) of section 337 in the importation into the United States, the sale for importation, or the sale within the United States after importation of certain personal transporters and components thereof by reason of infringement of one or more of claims 1, 3, and 4 of the '230 patent and claims 1-4 and 6 of the '607 patent, and whether an industry in the United States exists as required by subsection (a)(2) of section 337;

(2) For the purpose of the investigation so instituted, the following are hereby named as parties upon which this notice of investigation shall be served:

(a) The complainants are:

Segway Inc., 14 Technology Drive, Bedford, NH 03110

DEKA Products Limited Partnership, 340 Commercial Street, Suite 401, Manchester, NH 03101

Ninebot (Tianjin) Technology Co., Ltd., Building 9, Jiasuqi, Tianrui Road, Science and Technology Park Center, Auto Industrial Park, Wuqing, Tianjin, China

(b) The respondents are the following entities alleged to be in violation of section 337, and are the parties upon which the complaint is to be served:

Powerboard LLC, 9363 E Bahia Drive, Scottsdale, AZ 85260

Metem Teknoloji Sistemleri San, Necatibey Cad. No: 61, Karaköy, Istanbul, Turkey

Changzhou Airwheel Technology Co., Ltd., Fl. 9 Zhongchuang Building, No. 396 Tongjiang Road, Xinbei District, Changzhou, Jiangsu, China

Airwheel, Kabelweg 43 1014 BA, Amsterdam, Netherlands

Nanjing Fastwheel Intelligent Technology Co., Ltd., C2-1 Hongfeng Science & Technology Park, Qixia District, Nanjing, China

Shenzhen Chenduoxing Electronic, Technology Ltd., China, a.k.a. C-Star, 4F, block C11, Fuyuan Industrial Area, Jiuwei, Xixiang, Bao'an, Shenzhen, China

Hangzhou Chic Intelligent Technology Co., Ltd., 2/F, No. 2 Building, Liangzhu University, Science and Technology Park, No. 1 Jingyi Road, Hangzhou, 311112, China

Hovershop, 330 East Orange Thorpe Avenue, Suite K, Placentia, CA 92871

Shenzhen Jomo Technology Co., Ltd., a.k.a. Koowheel, Floor 4th and 7th, Caiyue Building, Meilong Road, Bao'an District, Shenzhen City, 518112, China

Guanghzou Kebye Electronic Technology Co., Ltd., a.k.a. Gotway, A2, 2nd Floor, Building 39, Dayangtian Industry Park, Wanfeng, No. 56, Fengtang Road, Bao'an District, Shenzhen, China

Inventist, Inc., 4901 NW Camas Meadows Drive, Camas, WA 98607

(c) The Office of Unfair Import Investigations, U.S. International Trade Commission, 500 E Street SW., Suite 401, Washington, DC 20436; and

(3) For the investigation so instituted, the Honorable David P. Shaw is designated as the presiding Administrative Law Judge.

The Commission has determined to assign this investigation to Judge Shaw, who is the presiding administrative law judge in Certain Personal Transporters, Components Thereof, and Packaging and Manuals Therefor, Inv. No. 337-TA-1007, and hereby directs Judge Shaw to consolidate the two proceedings in view of the overlapping general exclusion orders requested in the two investigations.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 15, 2016.
Lisa R. Barton,
Secretary to the Commission.

[FR Doc. 2016-22758 Filed 9-20-16; 8:45 am]

BILLING CODE 7020-02-P